DEPARTMENT OF TRANSPORTATION

Coast Guard

46 CFR Parts 110 and 111

[USCG-1999-6096]

RIN 2115-AF89

Marine Shipboard Electrical Cable Standards; Correction

AGENCY: Coast Guard, DOT.

ACTION: Notice of public meeting and reopening of comment period; correction.

SUMMARY: This document corrects the notice of public meeting and reopening of comment period as published on June 5, 2000. In that document, the docket number was incorrectly published as USCG-2000-6096. The correct docket number is USCG-1999-6096.

FOR FURTHER INFORMATION CONTACT: For questions on the public meeting, call Dolores Mercier, Project Manager, Office of Design and Engineering Standards (G-MSE), Coast Guard, telephone 202-267-0658, fax 202-267-4816, e-mail dmercier@comdt.uscg.mil. For questions on viewing or submitting material to the docket, call Dorothy Beard, Chief, Dockets, Department of Transportation, phone 202-366-9329.

SUPPLEMENTARY INFORMATION:

Background

On June 5, 2000, the Coast Guard published a notice of public meeting and reopening of comment period (65 FR 35600). The docket number was incorrectly published. Please submit your comments to USCG-1999-6096, the correct docket number.

Dated: June 14, 2000.
Howard L. Hime,
Acting Director of Standards.

[FR Doc. 00-15942 Filed 6-23-00; 8:45 am]

BILLING CODE 4910-15-U